COMMODITY FUTURES TRADING COMMISSION
Sunshine Act Meetings

Time and Date:
10 a.m., Wednesday, February 4, 2004.

Place:
1155 21st Street, NW., Washington, DC, Room 1012 Room.

Status:
Open.

Matters to be Considered:
The Commission will hold a public meeting to consider the application of the U.S. Futures Exchange, LLC, for contact market designation.

FOR FURTHER INFORMATION CONTACT:
Jean A. Webb, 202-418-5100 or http://www.cftc.gov.

Catherine D. Dixon,
Assistant Secretary of the Commission.

[FR Doc. 04-2012 Filed 1-28-04; 8:58 am]
BILLING CODE 6351-01-M